DEPARTMENT OF THE INTERIOR

Bureau of Land Management

[A2407-014-004-065516; #O2412-014-004-047181.1; LLES934000]

Leases for Sale, ALES-055797 Lease-by-Application and ALES-056519 Lease-by-Application, Tuscaloosa County, Alabama

AGENCY: Bureau of Land Management, Interior.

ACTION: Notice of coal lease sale.

SUMMARY: Notice is hereby given that Federal coal resources in lands in Tuscaloosa County, Alabama, will be offered for competitive lease by sealed bid in accordance with the provisions of the Mineral Leasing Act of 1920, as amended. The lease sale will cover tracts described in two Lease-by-Applications, and separate bids must be submitted for Lease-by-Application (LBA) ALES-055797 and/or ALES-056519 coal resources.

DATES: Sealed bids must be received by the Bureau of Land Management (BLM) Eastern States State Office Public Room on or before 9:30 a.m. Eastern Time (ET) on September 30, 2025. The lease sale will be held at 10:00 a.m. ET on September 30, 2025.

ADDRESSES: The lease sale will be held at the BLM Eastern States State Office, 5275 Leesburg Pike, Falls Church, VA 22041. Sealed bids must be submitted to the BLM Eastern States State Office, at this same address.

FOR FURTHER INFORMATION CONTACT: Stewart Boyd, Solids Mineral Lead, Eastern States State Office, by telephone at 859-880-2844, or by email at sboyd@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This sale is being held in response to two coal LBAs filed by Warrior Met Coal, for coal leases covering tracts in ALES-055797 and ALES-056519. Bidders may submit a bid for either one of the leases or both leases. A separate bid is required for each lease. A single bid covering both leases will not be accepted. The Federal coal lease parcels to be offered, underlying privately-owned surface lands in Tuscaloosa County, Alabama, are contained in the tracts located on the following described lands:

ALES-055797 Lease Tract

Huntsville Meridian, Alabama

T. 18 S., R. 8 W.,

Sec. 17, NE¼, SE¼, SW¼, E½NW¼, and SW¼NW¼;

Sec. 18, SE¼, E½SW¼, and SW¼SW¼;

Sec. 28, W½SW¼ and SE¼NW¼;

Sec. 33, SW¼NW¼.

T. 19 S., R. 8 W.,

Sec. 4, SE¼NW¼;

Sec. 11, E½NW¼;

Sec. 18, SW¼ and W½NW¼.

T. 18 S., R. 9 W.,

Sec. 21, NE¼SE¼;

Sec. 22, SW¼NE¼, S½SE¼, NW¼SE¼, SW¼, and SE¼NW¼;

Sec. 24, NE¼, El/2SE¼, NW¼SE¼, SW¼, El/2NW¼, and SW¼NW¼;

Sec. 26, NE¼, SE¼, SW¼, and E½NW¼;

Sec. 27, W½NE¼, SE¼, SW¼, and NW¼;

Sec. 28, N½SE¼;

Sec. 33, E½NE¼ and NE¼SE¼;

Sec. 34, NE¼, SE¼, N½SW¼, and NW¼;

Sec. 35, N½NE¼, SE¼NE¼, E½SE¼, SW¼SE¼, W½SW¼, N½NW¼ and SW¼NW¼.

T. 19 S., R. 9 W.,

Sec. 1, NE¼ and E½NW¼;

Sec. 12, NE¼, SE¼, E½SW¼, and E½NW¼;

Sec. 14, SE¼ and NW¼

The areas described for the ALES-055797 tract aggregate 5,704.52 acres, according to the official plats of the surveys of the said lands, on file with the BLM.

ALES-056519 Lease Tract

Huntsville Meridian, Alabama

T. 17 S., R. 8 W.,

Sec. 5, N½SW¼;

Sec. 6, S½NE¼, N½SE¼, and SE¼SE¼;

Sec. 7, NE¼NE¼, and W½NW¼;

Sec. 8, NE¼NE¼, and SW¼NE¼.

T. 17 S., R. 9 W.,

Sec. 2, W½NW¼, and NW¼SW¼;

Sec. 3, W½SW¼, and SW¼SE¼;

Sec. 4, E½NE¼, SW¼NE¼, and S½SW¼;

Sec. 5, SW¼SW¼, and E½SE¼;

Sec. 6, SE¼NE¼, and E½SE¼;

Sec. 7, NE¼NE¼, E½SW¼, and SE¼SE¼;

Sec. 8, SE¼NE¼, S½SW¼, E½SE¼, and SW¼SE¼;

Sec. 9, NE¼, SW¼, and SE¼;

Sec. 10, NE¼, W½NW¼, SE¼NW¼, SW¼, and NW¼SE¼;

Sec. 11, W½NW¼, and SE¼SE¼;

Sec. 13, N½NE¼, SW¼NE¼, and N½SW¼;

Sec. 14, E½NE¼, E½NW¼, E½SE¼, and NW¼SE¼;

Sec. 15, W½NE¼, NW¼, NW¼SW¼, and NW¼SE¼;

Sec. 17, NE¼, NW¼, NE¼SW¼, and SE¼;

Sec. 18, E½NE¼, NW¼NE¼, E½NW¼, and W½SW¼;

Sec. 20, NW¼NE¼, and SW¼NW¼;

Sec. 22, NE¼NW¼, and E½SE¼;

Sec. 23, S½NE¼, and NE¼SE¼;

Sec. 24, SW¼NW¼, and E½SE¼;

Sec. 25, NE¼NE¼, E½SW¼, and NE¼SE¼;

Sec. 26, NW¼NW¼;

Sec. 27, NE¼NE¼, and NW¼SW¼;

Sec. 30, E½SE¼;

Sec. 31, E½NE¼, SW¼NE¼, and SE¼/NW¼;

Sec. 32, NW¼NW¼, and W½SW¼;

Sec. 35, NE¼;

Sec. 36, NE¼, NW¼, E½SW¼, and SE¼.

T. 17 S., R. 10 W.,

Sec. 1, NW¼SE¼;

Sec. 12, SE¼SE¼;

Sec. 13, NE¼NE¼;

Sec. 35, E½SW¼;

Sec. 36, SE¼NE¼, and N½SW¼.

T. 18 S., R. 8 W.,

Sec. 5, N½NE¼, N½NW¼, and NW¼SW¼;

Sec. 6, W½NE¼, NW¼, SW¼, and W½SE¼;

Sec. 7, NE¼NE¼.

T. 18 S., R. 9 W.,

Sec. 1, E½NE¼, and NW¼NE¼;

Sec. 6, SW¼NE¼, E½NW¼, SW¼NW¼, and W½SW¼;

Sec. 7, S½NE¼, and N½NW¼;

Sec. 17, W½SW¼;

Sec. 18, SE¼NW¼, and N½SE¼.

T. 18 S., R. 10 W.,

Sec. 1, NE¼NW¼, SE¼SW¼, N½SE¼, and SW¼SE¼;

Sec. 11, E½NE¼;

Sec. 12, NW¼NE¼, and SE¼SW¼;

Sec. 13, NE¼SW¼, W½SE¼, and SE¼SE¼.

The areas described for the ALES-056519 tract aggregate 8,346.015 acres, according to the official plats of the surveys of the said lands, on file with the BLM.

Per both the ALES-055797 and ALES-056519 LBAs, the coal proposed to be mined by underground mining methods is in the Black Warrior Coal Basin, Mary Lee Group, and the coal seams proposed to be mined are the Mary Lee and Blue Creek. Both coal seams are considered a metallurgical-grade coal product.

Per the ALES-055797 LBA, the total coal, including the Mary Lee and Blue Creek coal seams, varies between 29 and 79 inches. The average depth of the coal seam in the Federal lease area is approximately 1,600 feet. The ALES-056519 LBA tract contains approximately 16.9 million tons of Federal recoverable coal.

Per the ALES-056519 LBA, the total coal, including the Mary Lee and Blue Creek coal seams, varies between 24 and 78 inches. The average depth of the coal seam in the Federal lease area is approximately 1,220 feet. The ALES-056519 LBA tract contains approximately 36.3 million tons of Federal recoverable coal.

The tracts will each be leased, separate leases for each LBA, to the qualified bidder of the highest cash amount, provided that the high bid for each tract meets or exceeds the BLM's estimate of the fair market value (FMV) of that tract. The minimum bid for each tract is $100 per acre or fraction thereof per 43 CFR 3422.1(c)(2). This regulatory minimum bid is not intended to represent FMV. The authorized officer will determine if the bids meet FMV.

The sealed bids should be sent by certified mail, return receipt requested, or be hand delivered to the Public Room, Eastern States State Office (see ADDRESSES), and clearly marked “Sealed Bid for ALES-055797 Coal Sale—Not to be opened before 10:00 a.m. ET on September 30, 2025” or “Sealed Bid for ALES-056519 Coal Sale—Not to be opened before 10:00 a.m. ET on September 30, 2025.” The Public Room representative will issue a receipt for each hand-delivered bid. Bids received after 9:30 a.m. ET will not be considered. If identical high bids are received for either tract, the tying high bidders will be requested to submit follow-up sealed bids until a high bid is received. All tie-breaking sealed bids must be submitted within 15 minutes following the sale official's announcement at the sale that identical high bids have been received.

Prior to lease issuance, the high bidder, if other than the applicant, must pay the BLM the cost recovery fee, in addition to all processing costs incurred by the BLM after the date of this sale notice (43 CFR 3473.2(f)). As of August 4, 2025, the cost-recovery fee for each LBA is approximately $120,000 and will increase up until issuance of the lease.

Leases issued because of this offering will require payment of an annual rental of $3 per acre, or fraction thereof, and a royalty payable to the United States pursuant to Section 7(a) of the Mineral Leasing Act (30 U.S.C. 207(a)) as amended.

Bidding instructions for the tracts offered and the terms and conditions of the two proposed coal leases are included in the “Detailed Statement of Coal Lease Sale,” with copies available at the Eastern States State Office (see ADDRESSES). Documents in the case files for the ALES-055797 and ALES-056519 LBAs are available for public inspection at the Eastern States State Office Public Room.

(Authority: 43 CFR 3422.3-2)

Christopher Hite,
Branch Chief, Solid Minerals. BLM Eastern States.

[FR Doc. 2025-16806 Filed 9-2-25; 8:45 am]

BILLING CODE 4331-18-P